GENERAL SERVICES ADMINISTRATION

Office of Governmentwide Policy

Governmentwide Relocation Advisory Board

AGENCY: Office of Governmentwide Policy, GSA.

ACTION: Notice.

SUMMARY: The General Services Administration is announcing the creation of a Governmentwide Relocation Advisory Board (the Board). The Board will offer advice and recommendations on a wide range of relocation management issues. The Board's first priority will be to review the current policies promulgated through the Federal Travel Regulation (FTR) for relocation allowances and associated reimbursements. Board meetings will be announced in the Federal Register.

FOR FURTHER INFORMATION CONTACT: Joan Bender, Room 1221, GSA Building, Washington, DC 20405, (202) 208-4462, or by email at joan.bender@gsa.gov.

SUPPLEMENTARY INFORMATION: This notice is published in accordance with the provisions of the Federal Advisory Committee Act (Pub. L. 92-463), and advises of the establishment of the GSA Governmentwide Relocation Advisory Board. The Administrator of General Services has determined that the establishment of the Board is necessary and in the public interest.

The Charter for the Governmentwide Relocation Advisory Board reads as follows:

General Services Administration (GSA)

Governmentwide Relocation Advisory Board

CHARTER

Official Designation: Governmentwide Relocation Advisory Board.

Scope and Objectives: The Board will review the current policies promulgated through the Federal Travel Regulation (FTR) for relocation and associated reimbursements and allowances for Federal relocating employees. Through the review, the Board will recommend improvements for better management of Governmentwide relocation.

Duration: The Board will exist for 12 months from the date of the Charter unless renewed prior to official termination date.

Reporting Relationship: The Board reports to General Services Administration's (GSA's) Deputy Associate Administrator, Office of Transportation and Personal Property.

Support: GSA's Office of Governmentwide Policy, Office of Transportation and Personal Property will provide staff and other support to the Board.

Duties: The Board will provide advice and recommendations only.

Costs: Estimated cost of supporting the Board's functions is $83,820, including direct and indirect expenses. FTE estimate to support the Board is 1.5.

Meetings: The Board is anticipated to meet at least 7 times during the 12-month period.

Organization: With the approval of GSA, the Board may create such subcommittees as may be necessary to fulfill its mission. In addition, GSA and the Board may establish any operating procedures required to support the group, consistent with the Federal Advisory Committee Act, as amended.

Date of Termination: The Board will terminate 12 months from the date of Charter filing unless formally renewed prior to official termination date.

Approved: Stephen A. Perry (Administrator) June 14, 2004.

Dated: June 14, 2004.
Becky Rhodes,
Deputy Associate Administrator.

[FR Doc. 04-14088 Filed 6-21-04; 8:45 am]

BILLING CODE 6820-14-S